DEPARTMENT OF HOUSING AND URBAN DEVELOPMENT

[Docket No. FR-4861-N-01]

Notice of Funding Availability for Revitalization of Severely Distressed Public Housing; HOPE VI Revitalization and Demolition Grants, Fiscal Year 2003

Correction

In notice document 03-26476 beginning on page 60178 in the issue of Tuesday, October 21, 2003, make the following corrections:

1. On page 60178, in the third column, under the heading “(D) Application Deadline”, in the second line, “January 19, 2004” should read “January 20, 2004”.

2. On page 60179, in the second column, under the heading “(B) Application Submission Timeframes”, in the third and fourth lines, “January 19, 2004” should read “January 20, 2004”.

[FR Doc. C3-26476 Filed 10-23-03; 8:45 am]

BILLING CODE 1505-01-D

NATIONAL ARCHIVES AND RECORDS ADMINISTRATION

Privacy Act of 1974, as Amended; System of Records Notices

Correction

In notice document 03-26613 beginning on page 60121 in the issue of Tuesday, October 21, 2003, make the following correction:

On page 60121, in the second column, under the EFFECTIVE DATES heading, in the fifth line, “November 20, 2003 ” should read “ November 17, 2003 ”.

[FR Doc. C3-26613 Filed 10-23-03; 8:45 am]

BILLING CODE 1505-01-D